OFFICE OF SCIENCE AND TECHNOLOGY POLICY

Orbital Debris Research and Development Interagency Working Group Listening Sessions

Correction

In notice document 2021-26729, appearing on pages 70547-70548 in the issue of Friday, December 10, 2021, make the following correction:

On page 70547, in the second column, in the ADDRESSES section, the fourth through seventh lines are corrected to read as follows:

1. Debris Remediation: https://ida-org.zoomgov.com/meeting/register/vJIsc-uupzgiGLyz7dJnKBzd5TYtWSIvFEY.

2. Debris Mitigation: https://ida-org.zoomgov.com/meeting/register/vJIsdu2pqDsrHtcrkQItFEkScORq00AoDA4.

[FR Doc. C1-2021-26729 Filed 12-13-21; 8:45 am]

BILLING CODE 0099-10-D